DEPARTMENT OF COMMERCE

International Trade Administration

[A-570-881]

Antidumping Duty Order: Certain Malleable Iron Pipe Fittings From the People's Republic of China

AGENCY: Import Administration, International Trade Administration, Department of Commerce.

ACTION: Notice of Antidumping Duty Order.

EFFECTIVE DATE: December 12, 2003.

FOR FURTHER INFORMATION CONTACT: Anya Naschak, Helen Kramer, or Ann Barnett-Dahl at (202) 482-6375, (202) 482-0405, or (202) 482-3833, respectively; Antidumping and Countervailing Duty Enforcement Group III, Import Administration, International Trade Administration, U.S. Department of Commerce, 14th Street and Constitution Avenue, NW., Washington, DC 20230.

SUPPLEMENTARY INFORMATION:

Scope of Order

For purposes of this order, the products covered are certain malleable iron pipe fittings, cast, other than grooved fittings, from the People's Republic of China. The merchandise is classified under item numbers 7307.19.90.30, 7307.19.90.60 and 7307.19.90.80 of the Harmonized Tariff Schedule (HTSUS). Excluded from the scope of this order are metal compression couplings, which are imported under HTSUS number 7307.19.90.80. A metal compression coupling consists of a coupling body, two gaskets, and two compression nuts. These products range in diameter from 1/2 inch to 2 inches and are carried only in galvanized finish. Although HTSUS subheadings are provided for convenience and U.S. Customs and Border Protection (CBP) purposes, the Department's written description of the scope of this proceeding is dispositive.

Antidumping Duty Order

In accordance with section 735(a) of the Act, the Department made its final determination that malleable iron pipe fittings (MPF) from the People's Republic of China (the PRC) is being sold at less-than-fair-value (LTFV). See Notice of Final Determination of Sales at Less Than Fair Value: Certain Malleable Iron Pipe Fittings from the PRC, 68 FR 61395 (October 28, 2003). Subsequently, the Department amended its final determination of the antidumping duty investigation of MPF from the PRC to correct certain ministerial errors in the final margin calculation. See Notice of Amended Final Determination of Sales at Less Than Fair Value: Certain Malleable Iron Pipe Fittings from the People's Republic of China, 68 FR 65873 (November 24, 2003). On December 3, 2003, the International Trade Commission (ITC) notified the Department of Commerce (the Department) of its final determination, pursuant to section 735(b)(1)(A)(ii) of the Tariff Act of 1930, as amended (the Act), that the industry in the United States producing MPF is threatened with material injury by reason of import of the subject merchandise from the PRC. In accordance with section 736(a)(1) of the Act, the Department will direct CBP to assess, upon further advice by the administering authority, antidumping duties equal to the amount by which the normal value of the merchandise exceeds the U.S. price of the merchandise for all relevant entries of MPF from the PRC.

Section 736(b)(2) of the Act provides that duties shall be assessed on subject merchandise entered, or withdrawn from warehouse, for consumption on or after the date of publication of the ITC's notice of final determination if that determination is based on the threat of material injury and is not accompanied by a finding that injury would have resulted but for the imposition of suspension of liquidation of entries since the Department's preliminary determination. In addition, section 736(b)(2) of the Act requires CBP to refund any cash deposits or bonds of estimated antidumping duties posted since the Department's preliminary antidumping determination if the ITC's final determination is based on a threat of material injury.

Because the ITC's final determination in this case is based on the threat of material injury and is not accompanied by a finding that injury would have resulted but for the imposition of suspension of liquidation of entries since the Department's preliminary determination, section 736(b)(2) of the Act is applicable to this order. Therefore, the Department will direct CBP to assess, upon further advice, antidumping duties on all unliquidated entries of MPF from the PRC entered, or withdrawn from warehouse, for consumption on or after the date of publication of the ITC's notice of final determination of threat of material injury in the Federal Register and terminate the suspension of liquidation for entries of MPF from the PRC entered, or withdrawn from warehouse, for consumption prior to that date. The Department will also instruct CBP to refund any cash deposits made, or bonds posted, between the period 90 days prior to the publication date of the Department's preliminary antidumping determination and the publication of the ITC's final determination.

On or after the date of publication of this notice in the Federal Register, CBP must require, at the same time as importers would normally deposit estimated duties on this merchandise, a cash deposit equal to the estimated weighted-average antidumping duty margins noted below:

Exporter/Manufacturer | Margin ­(percent)
Jinan Meide Casting Co., Ltd. | 11.31
Beijing Sai Lin Ke Hardware Co. Ltd. | 15.92
Langfang Pannext Pipe ­Fitting Co., Ltd. | 7.35
Chengde Malleable Iron General Factory | 11.18
SCE Co., Ltd. | 11.18
PRC-Wide | 111.36

The “PRC-wide” rate applies to all exporters in the PRC of subject merchandise not specifically listed above.

This notice constitutes the antidumping duty order with respect to MPF from the PRC, pursuant to section 736(a) of the Act. Interested parties may contact the Department's Central Records Unit, room B-099 of the main Commerce building, for copies of an updated list of the antidumping duty orders currently in effect.

This order is published in accordance with section 736(a) of the Act, and 19 CFR 351.211(b).

Dated: December 5, 2003.
James J. Jochum,
Assistant Secretary for Import Administration.

[FR Doc. E3-00548 Filed 12-11-03; 8:45 am]

BILLING CODE 3510-DS-S